DEPARTMENT OF LABOR

Employment and Training Administration

Notice of Determinations Terminating Investigations of Petitions Regarding Eligibility To Apply for Worker Adjustment Assistance

In accordance with Section 223 of the Trade Act of 1974, as amended (19 USC 2273) the Department of Labor herein presents summaries of determinations terminating investigations of petitions regarding eligibility to apply for trade adjustment assistance for workers by (TA-W-) number issued during the period of August 31, 2009 through December 28, 2009. After notice of the petitions was published in the Federal Register and on the Department's Web site, as required by Section 221 of the Act (19 USC 2271), the Department initiated investigations of these petitions.

The following determinations terminating investigations were issued because the petitioner has requested that the petition be withdrawn.

TA-W-70,181: Hamilton Sundstrand, Windsor Locks, Connecticut.

TA-W-70,415: Gerber Legendary Blades, Portland, Oregon.

TA-W-70,578: Industrial Metal Products Corporation, Lansing, Michigan.

TA-W-70,632: All American Manufacturing Company, Inc., Chicago, Illinois.

TA-W-70,639: Quality Metal Coatings, Inc., Saint Marys, Pennsylvania.

TA-W-70,651: Freeman Marine Equipment, Inc., Gold Beach, Oregon.

TA-W-70,693: Western Electronics, Meridian Idaho.

TA-W-70,693A: Western Electronics, Westminster, Colorado.

TA-W-70,787: Johnson Controls, Inc., Pulaski, Tennessee.

TA-W-70,886: Johnson Bros—West Salem, Inc., West Salem, Ohio.

TA-W-70,890: UAW, Local 235, Hamtramck, Michigan.

TA-W-71,016: Principal Manufacturing Corporation, Broadview, Illinois.

TA-W-71,093: Bill Wink Chevrolet, Dearborn, Michigan.

TA-W-71,124: Actco Tool and Manufacturing Company, Meadville, Pennsylvania.

TA-W-71,142: Plaza Travel, Hermitage, Pennsylvania.

TA-W-71,213: Unitex Chemical Corporation, Greensboro, North Carolina.

TA-W-71,385: Nortech Systems, Inc., Merrifield, Minnesota.

TA-W-71,387: Kipe and Associates, Inc., Beaverton, Oregon.

TA-W-71,591: Aztec Machinery Company, Inc., Ivyland, Pennsylvania.

TA-W-71,675; Woodlawn Precision Machine, Inc., Woodlawn, Virginia

TA-W-71,769: Fisher and Ludlow, Saegertown, Pennsylvania.

TA-W-71,851: Best Textiles International, Ltd, New York, New York.

TA-W-71,891: Schindler Elevator Corp., Morristown, New Jersey.

TA-W-71,911: Finetex Technology, Hudson, New Hampshire.

TA-W-71,963: MAHLE Filters Systems North America, Inc., Murfreesboro, Tennessee.

TA-W-71,967: Williamsburg Manufacturing, Williamsburg, Iowa.

TA-W-71,982: Altadis U.S.A., Inc., Tampa, Florida.

TA-W-72,052: EOS Technologies, Inc., Tucson, Arizona.

TA-W-72,082: RS Bacon Veneer Company, Burr Ridge, Illinois.

TA-W-72,084: United Associated of Plumbers and Pipefitters, Local Union #98, Madison Heights, Michigan.

TA-W-72,097: Smurfit-Stone Container Corp., Murfreesboro, Tennessee.

TA-W-72,116: RCO Engineering, Inc., Roseville, Michigan.

TA-W-72,132: Plastics Engineering Company, Sheboygan, Wisconsin.

TA-W-72,320; Atmel Corporation, Colorado Springs, Colorado.

TA-W-72,357: Home Interiors, Inc., Carrollton, Texas.

TA-W-72,389: ACH Food Companies, Inc., Humboldt, Tennessee.

TA-W-72,396: Universal Style, Inc., North Bergen, New Jersey.

TA-W-72,441: Insteel Wire Products Company, Sanderson, Florida.

TA-W-72,441A: Insteel Wire Products Company, Gallatin, Tennessee.

TA-W-72,457: Datamatics Technology, Livonia, Michigan.

TA-W-72,525: Channellock, Inc., Meadville, Pennsylvania.

TA-W-72,542: Cellular Express, Inc., DBA Boston Communications, Group, Bedford, Massachusetts.

TA-W-72,637: Lynn Ladder and Scaffolding Company, Orwigsburg, Pennsylvania.

TA-W-72,701: Bombardier Recreational Products US, Inc., Sturtevant, Wisconsin.

TA-W-72,801: AGI In Store, Forest City, North Carolina.

TA-W-72,802; North American Enclosures, Inc., Central Islip, New York.

TA-W-72,970: Hopper Industries, Inc., Logansport, Indiana.

TA-W-72,994: Nautilus, Inc., Vancouver, Washington.

I hereby certify that the aforementioned determinations were issued during the period of August 31, 2009 through December 28, 2009. Copies of these terminations are available for inspection in Room N-5428, U.S. Department of Labor 200 Constitution Avenue, NW., Washington, DC 20210 during normal business hours or will be mailed to persons who write to the above address. These determinations also are available on the Department's Web site at http://www.doleta/tradeact under the searchable listing of determinations

Dated: April 14, 2010.
Elliott S. Kushner,
Certifying Officer, Division of Trade Adjustment Assistance.

[FR Doc. 2010-9348 Filed 4-21-10; 8:45 am]

BILLING CODE 4510-FN-P